DEPARTMENT OF COMMERCE

International Trade Administration

[A-570-822]

Certain Helical Spring Lock Washers From the People's Republic of China; Final Results of Antidumping Duty Administrative Review

AGENCY: Import Administration, International Trade Administration, Department of Commerce.

ACTION: Notice of Final Results of Antidumping Administrative Duty Review.

SUMMARY: On July 11, 2001, the Department of Commerce published the preliminary results of the administrative review of the antidumping duty order on certain helical spring lock washers from the People's Republic of China. We gave interested parties an opportunity to comment. Based upon our analysis of the comments and information received, we have made changes to the margin calculations presented in the final results of the review. We find that helical spring lock washers from the People's Republic of China are not being sold in the United States below normal value by the company reviewed. The final weighted-average dumping margin is listed below in the section entitled Final Results of the Review.

EFFECTIVE DATE: February 25, 2002.

FOR FURTHER INFORMATION CONTACT: Sally Hastings, Import Administration, International Trade Administration, U.S. Department of Commerce, 14th and Constitution Avenue, NW., Washington, DC 20230; telephone (202) 482-3464.

SUPPLEMENTARY INFORMATION:

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department”) regulations are to 19 CFR part 351 (2000).

Background

On July 11, 2001, the Department published in the Federal Register the preliminary results of its administrative review of helical spring lock washers (“HSLWs”) from the People's Republic of China (“PRC”) (Certain Helical Spring Lock Washers from the People's Republic of China; Preliminary Results of Antidumping Duty Administrative Review, 66 FR 36251 (July 11, 2001) (“Preliminary Results”). We received surrogate value information from the petitioner, Shakeproof Assembly Components Division of Illinois Tool Works Inc. (“petitioner”), and the respondent, Hang Zhou Spring Washer Co., Ltd. also known as Zhejiang Wanxin Group Co., Ltd. (“Hangzhou”), on July 31, 2001. The petitioner and the respondent submitted case briefs and rebuttal briefs on August 10 and 15, 2001, respectively. The Department has now completed the antidumping duty administrative review in accordance with section 751 of the Act.

Scope of Order

The products covered by this review are HSLWs of carbon steel, of carbon alloy steel, or of stainless steel, heat-treated or non-heat-treated, plated or non-plated, with ends that are off-line. HSLWs are designed to: (1) Function as a spring to compensate for developed looseness between the component parts of a fastened assembly; (2) distribute the load over a larger area for screws or bolts; and, (3) provide a hardened bearing surface. The scope does not include internal or external tooth washers, nor does it include spring lock washers made of other metals, such as copper.

HSLWs subject to this review are currently classifiable under subheading 7318.21.0030 of the Harmonized Tariff Schedule of the United States (“HTSUS”). Although the HTSUS subheading is provided for convenience and customs purposes, the written description of the scope of this proceeding is dispositive.

Period of Review

The period of review (“POR”) is from October 1, 1999 through September 30, 2000.

Comparisons

We calculated export price and normal value based on the same methodology used in the Preliminary Results with the following exceptions:

1. We used values that were more contemporaneous with the POR for steam coal, lubricating oil, nitric acid, hydrofluoric acid, caustic soda-lye, caustic soda, sodium hydroxide, chromicacid, sodium nitrate, barium carbonate, sodium cyanide, potassium chromate, methalymine, potassium aluminum sulfate, adhesive tape, packing sheet, plastic bags, cartons, steel scrap, packing strips, nails, and zinc dust

2. We used an Indonesian import value for hydrochloric acid.

3. We revised the value for inland shipping, using a different source and data more contemporaneous with the POR. We corrected errors in our calculation of shipping distances.

4. We corrected an error in the sales database.

5. For labor, we used the regression-based wage rate for the PRC, revised September, 2001, in “Expected Wages of Selected NME Countries” located on the Internet at http://ia.ita.doc.gov/wages/99wages/99wages/htm.

Analysis of Comments Received

All issues raised in the case and rebuttal briefs by parties to this proceeding are addressed in the February 15, 2002, Issues and Decision Memorandum (“Decision Memorandum”) which is hereby adopted by this notice. Attached to this notice as an appendix is a list of the issues which parties have raised and to which we have responded in the Decision Memorandum. Parties can find a complete discussion of all issues raised in this review and the corresponding recommendations in this public memorandum which is on file in the Central Records Unit, Room B-099 of the Department. In addition, a complete version of the Decision Memorandum can be accessed directly on the Web at http://ia.ita.doc.gov/frn/summary/list.htm. The paper copy and electronic version of the Decision Memorandum are identical in content.

Final Results of the Review

The weighted-average dumping margin for the period October 1, 1999 through September 30, 2000, is as follows:

Manufacturer/exporter | Time period | Margin (percent) (de minimis)
Hang Zhou Spring Washer Co., Ltd/Zhejiang Wanxin Group Co., Ltd | 10/01/99-09/30/00 | 0.01

Because the duty assessment rates for Hangzhou are zero or de minimis (i.e., less than 0.5 percent), we will instruct the Customs Service to liquidate entries made during this review period without regard to antidumping duties for subject merchandise exported by Hangzhou. All other entries of the subject merchandise during the POR will be liquidated at the antidumping rate in place at the time of entry.

Furthermore, the following deposit rates will be effective upon publication of these final results for all shipments of HSLWs from the PRC entered, or withdrawn from warehouse, for consumption on or after the publication date, as provided for by section 751(a)(1) of the Act:

(1) For Hangzhou, which has had a separate rate in the investigation and all reviews, no deposit will be required because the company had a de minimis rate in this review; (2) for all other PRC exporters, the cash deposit rate will be the PRC-wide rate, 128.63 percent, which is the All Other PRC Manufacturers, Producers and Exporters rate from the Final Determination of Sales at Less Than Fair Value: Certain Helical Spring Lock Washers from the PRC, 58 FR 48833 (September 20, 1993); and, (3) for non-PRC exporters of subject merchandise from the PRC, the cash deposit rate will be the rate applicable to the PRC supplier of that exporter. These deposit rates shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

This administrative review and notice are in accordance with sections 751(a)(1) and 777(i)(1) of the Act.

Dated: February 15, 2002.
Faryar Shirzad,
Assistant Secretary for Import Administration.

Appendix

List of Comments in the Issues and Decision Memorandum

Comment 1: Use of Import Prices to Value All Steel Wire Rod Inputs

Comment 2: Plating Operations: Factory Overhead, SG&A Expenses and Profit

Comment 3: Representativeness of Plating Factors of Production

Comment 4: Valuation of Hydrochloric Acid

Comment 5: Valuation of Inland Shipping Rate

Comment 6: Valuation of Potassium Aluminum Sulphate

Comment 7: Calculation of Factory Overhead Net of Scrap

[FR Doc. 02-4423 Filed 2-22-02; 8:45 am]

BILLING CODE 3510-DS-P